DEPARTMENT OF COMMERCE

National Oceanic and Atmospheric Administration

Marine Mammals and Endangered Species

AGENCY: National Marine Fisheries Service (NMFS), National Oceanic and Atmospheric Administration (NOAA), Commerce.

ACTION: Notice; issuance of permits and permit modifications.

SUMMARY: Notice is hereby given that permits or permit amendments have been issued to the following entities under the Marine Mammal Protection Act (MMPA) and the Endangered Species Act (ESA), as applicable.

ADDRESSES: The permits and related documents are available for review upon written request or by appointment in the Permits and Conservation Division, Office of Protected Resources, NMFS, 1315 East-West Highway, Room 13705, Silver Spring, MD 20910; phone: (301) 427-8401; fax: (301) 713-0376.

FOR FURTHER INFORMATION CONTACT: Shasta McClenahan (Permit No. 21482), Amy Hapeman (Permit Nos. 21367-01 and 22218), and Carrie Hubard (Permit No. 22965); at (301) 427-8401.

SUPPLEMENTARY INFORMATION: Notices were published in the Federal Register on the dates listed below that requests for a permit or permit amendment had been submitted by the below-named applicants. To locate the Federal Register notice that announced our receipt of the application and a complete description of the research, go to www.federalregister.gov and search on the permit number provided in the table below.

Permit No. | RIN | Applicant | Previous Federal Register notice | Permit or amendment issuance date
21367-01 | 0648-XF862 | Christopher Marshall, Ph.D., Texas A&M University at Galveston, 200 Seawolf Parkway, Galveston, TX 77553 | 84 FR 23020; May 21, 2019 | July 24, 2019.
21482 | 0648-XG359 | Dan T. Engelhaupt, Ph.D., HDR, Inc., 4173 Ewell Road, Virginia Beach, VA 23455 | 84 FR 22452; May 17, 2019 | July 19, 2019.
22218 | 0648-XG499 | NMFS Northeast Fisheries Science Center, 166 Water Street, Woods Hole, MA 02543 (Responsible Party: Dr. Jon Hare) | 83 FR 50646; October 9, 2018 | July 30, 2019.
22965 | 0648-XG961 | Sea to Sea Productions Ltd., 477 Island View Drive, Boutiliers Point, Nova Scotia, Canada B3Z1R3 (Responsible Party: David Kent Nason) | 84 FR 15602; April 16, 2019 | July 10, 2019.

In compliance with the National Environmental Policy Act of 1969 (42 U.S.C. 4321 et seq.), a final determination has been made that the activities proposed are categorically excluded from the requirement to prepare an environmental assessment or environmental impact statement.

As required by the ESA, as applicable, issuance of these permit was based on a finding that such permits: (1) Were applied for in good faith; (2) will not operate to the disadvantage of such endangered species; and (3) are consistent with the purposes and policies set forth in Section 2 of the ESA.

Authority: The requested permits have been issued under the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226), as applicable.

Dated: August 12, 2019.
Julia Marie Harrison,
Chief, Permits and Conservation Division, Office of Protected Resources, National Marine Fisheries Service.

[FR Doc. 2019-17565 Filed 8-14-19; 8:45 am]

BILLING CODE 3510-22-P